SOCIAL SECURITY ADMINISTRATION

20 CFR Part 416

[Docket No. SSA-2012-0035]

RIN 0960-AH51

Revisions to Rules Regarding the Evaluation of Medical Evidence; Correction

AGENCY: Social Security Administration.

ACTION: Correcting amendment.

SUMMARY: On January 18, 2017, we published final rules in the Federal Register revising our medical evidence rules. Those final rules inadvertently included a typographical error. This document corrects the final regulations.

DATES: Effective October 15, 2018, and applicable beginning March 27, 2017.

FOR FURTHER INFORMATION CONTACT: Joshua Silverman, Office of Vocational, Evaluation, and Process Policy, Office of Disability Policy, Social Security Administration, 6401 Security Boulevard, Baltimore, Maryland 21235-6401, (410) 594-2128. For information on eligibility or filing for benefits, call our national toll-free number, 1-800-772-1213 or TTY 1-800-325-0778, or visit our internet site, Social Security Online, at http://www.socialsecurity.gov.

SUPPLEMENTARY INFORMATION: We published final rules in the Federal Register on January 18, 2017 (82 FR 5844, corrected March 27, 2017, at 82 FR 15132) titled Revisions to Rules Regarding the Evaluation of Medical Evidence. The final rules, among other things, amended the regulatory text for acceptable medical sources by adding licensed audiologists to the list of acceptable medical sources in 20 CFR 416.902(a)(6). We inadvertently included duplicative wording in that section of the rules. This document amends the regulations by deleting the duplication of three words (for impairments of) and corrects the final rules.

List of Subjects in 20 CFR Part 416

Administrative practice and procedure, Reporting and recordkeeping requirements, Supplemental Security Income (SSI).

Accordingly, 20 CFR part 416, subpart I is corrected by making the following correcting amendment:

PART 416—SUPPLEMENTAL SECURITY INCOME FOR THE AGED, BLIND, AND DISABLED

Subpart I—Determining Disability and Blindness

1. The authority citation for subpart I of part 416 continues to read as follows:

Authority: Secs. 221(m), 702(a)(5), 1611, 1614, 1619, 1631(a), (c), (d)(1), and (p), and 1633 of the Social Security Act (42 U.S.C. 421(m), 902(a)(5), 1382, 1382c, 1382h, 1383(a), (c), (d)(1), and (p), and 1383b); secs. 4(c) and 5, 6(c)-(e), 14(a), and 15, Pub. L. 98-460, 98 Stat. 1794, 1801, 1802, and 1808 (42 U.S.C. 421 note, 423 note, and 1382h note).

2. Amend § 416.902 by revising paragraph (a)(6) to read as follows:

§ 416.902 Definitions for this subpart.

* * * * *

(a) * * *

(6) Licensed audiologist for impairments of hearing loss, auditory processing disorders, and balance disorders within the licensed scope of practice only (with respect to claims filed (see § 416.325) on or after March 27, 2017);

* * * * *

Nancy A. Berryhill,
Acting Commissioner of Social Security.

[FR Doc. 2018-22363 Filed 10-12-18; 8:45 am]

BILLING CODE 4191-02-P